DEPARTMENT OF HOUSING AND URBAN DEVELOPMENT

[Docket No. FR-5415-FA-41]

Announcement of Funding Awards; Limited English Proficiency Initiative Program (LEPI), Fiscal Year 2010/2011

AGENCY: Office of the Assistant Secretary for Fair Housing and Equal Opportunity, the Department of Housing and Urban Development, HUD.

ACTION: Announcement of funding awards.

SUMMARY: In accordance with section 102(a)(4)(C) of the Department of Housing and Urban Development Reform Act of 1989, this announcement notifies the public of funding decisions made by the Department for funding under the Notice of Funding Availability (NOFA) for the Limited English Proficiency Initiative (LEPI) Program for Fiscal Year (FY) 2010/2011. This announcement contains the names and addresses of those award recipients selected for funding based on the rating and ranking of all applications and the amount of the awards.

FOR FURTHER INFORMATION CONTACT: Pamela Walsh, Director, Office of Policy, Legislative Initiatives, and Outreach, Office of Fair Housing and Equal Opportunity, Department of Housing and Urban Development, 451 Seventh Street, SW., Room 5246, Washington, DC 20410. Telephone number (202) 402-7017 (this is not a toll-free number). Persons with hearing or speech impairments may access this number through TTY by calling the toll-free Federal Relay Service at 800-877-8339.

SUPPLEMENTARY INFORMATION: Executive Order 13166 signed in August 2000 requires all federal agencies to improve access to federally conducted and federally assisted programs and activities for persons who, as a result of national origin, are limited in the English proficiency (LEP). Each agency is to examine the services they provide, identify any need for services to those with limited English proficiency (LEP), and develop and implement a system to provide those services so LEP persons can have meaningful access to them. This LEPI NOFA sponsors organizations to help ensure that LEP persons can have meaningful access the Department of Housing and Urban Development's programs, services, and activities.

The Department published its Limited English Proficiency Initiative (LEPI) NOFA on July 11, 2011, amended July 18, 2011, announcing the availability of $650,000 to go to up to seven organizations to make HUD programs more accessible to LEP persons. This Notice announces six grant awards of approximately $100,000 each and one grant award of $50,000 for organizations to assist locally targeted LEP individuals.

For the FY 2010/2011 NOFA, the Department reviewed, evaluated, and scored the applications received based on the criteria in the FY 2010/2011 LEPI NOFA. As a result, HUD has decided to fund the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Limited English Proficiency Initiative Program is 14.421.

Dated: October 18, 2011.
John D. Trasviña,
Assistance Secretary for Fair Housing and Equal Opportunity.

Appendix A

FY 2010/2011—Limited English Proficiency Initiative NOFA
Applicant name | Contact | Region | Award amt.
Chhaya Community Development Center, 37-43 77th Street, 2nd Floor, Jackson Heights, NY 11372-6629 | Seema Agnani 718-478-3848 | 2 | $100,000.00
Equal Rights Center, 11 Dupont Circle NW, Washington, DC 20036 | Adriana Lopez 202-234-3062 | 3 | 100,000.00
Southwest Minnesota Housing Partnership, 2401 Broadway Avenue, Suite 4, Slayton, MN 56172-1142 | Ali Joens 507-836-1605 | 5 | 100,000.00
International Institute of St. Louis, 3654 S. Grand Street, St. Louis, MO 63118-3404 | Suzanne LeLaurin 314-773-9090 | 7 | 99,998.00
Lutheran Children and Family Services, 5902 North 5th Street, Philadelphia, PA 19120-1824 | Rosemary Bauersmith 215-643-6335 | 3 | 99,101.00
Kurdish Human Rights Center, 10560 Main Street, Suite 207, Fairfax, VA 22030-7176 | Pary Karadaghi 703-385-3806 | 3 | 100,000.00
The Legal Aid Society of Hawaii, 924 Bethel Street, Honolulu, HI 96813-4304 | Elise von Dohlen 808-527-8056 | 9 | 50,000.00

[FR Doc. 2011-27668 Filed 10-25-11; 8:45 am]

BILLING CODE 4210-67-P